DEPARTMENT OF EDUCATION

34 CFR Chapter III

[Docket ID ED-2024-OSERS-0001]

Technical Assistance on State Data Collection—National Technical Assistance Center To Improve State Capacity To Collect, Report, Analyze, and Use Accurate Early Childhood IDEA Data

AGENCY: Office of Special Education and Rehabilitative Services, Department of Education.

ACTION: Final priorities and requirements.

SUMMARY: The Department of Education (Department) announces priorities and requirements for the National Technical Assistance Center To Improve State Capacity To Collect, Report, Analyze, and Use Accurate Early Childhood IDEA Data (Center) under the Technical Assistance on State Data Collection program. The Department may use these priorities and these requirements in fiscal year (FY) 2024 and later years. We will use the priorities to award a cooperative agreement for a Center to provide technical assistance (TA) to improve the capacity of States to meet the early childhood data collection and reporting requirements under Part B and Part C of the Individuals with Disabilities Education Act (IDEA).

DATES: The priority and requirements are effective August 21, 2024.

FOR FURTHER INFORMATION CONTACT: Meredith Miceli, U.S. Department of Education, 400 Maryland Avenue SW, Room 4A10, Washington, DC 20202. Telephone: (202) 987-0135. Email: Meredith.Miceli@ed.gov.

If you are deaf, hard of hearing, or have a speech disability and wish to access telecommunications relay services, please dial 7-1-1.

SUPPLEMENTARY INFORMATION:

Purpose of Program: The purpose of the Technical Assistance on State Data Collection program is to improve the capacity of States to meet IDEA data collection and reporting requirements. Funding for the program is authorized under section 611(c)(1) of IDEA, which gives the Secretary authority to reserve not more than one-half of one percent of the amounts appropriated under Part B for each fiscal year to provide TA activities, where needed, to improve the capacity of States to meet the data collection and reporting requirements under Parts B and C of IDEA. The maximum amount the Secretary may reserve under this set-aside for any fiscal year is $25,000,000, cumulatively adjusted by the rate of inflation. Section 616(i) of IDEA requires the Secretary to review the data collection and analysis capacity of States to ensure that data and information determined necessary for implementation of section 616 and 642 of IDEA are collected, analyzed, and accurately reported to the Secretary. It also requires the Secretary to provide TA, where needed, to improve the capacity of States to meet the data collection requirements, which include the data collection and reporting requirements in sections 616 and 618 of IDEA. In addition, the Further Consolidated Appropriations Act, 2024, Public Law 118-47, gives the Secretary authority to use funds reserved under section 611(c) of IDEA to “administer and carry out other services and activities to improve data collection, coordination, quality, and use under parts B and C of the IDEA.” Further Consolidated Appropriations Act, 2024, Public Law 118-47, Div. D, Title III, 138 Stat. 460, 685 (2024).

Assistance Listing Number: 84.373Z.

Program Authority: 20 U.S.C. 1411(c), 1416(i), 1418(c), 1418(d), 1442; Further Consolidated Appropriations Act, 2024, Public Law 118-47, Div. D, Title III, 138 Stat. 460, 685 (2024).

Applicable Program Regulations: 34 CFR 300.702.

We published a notice of proposed priority and requirements (NPP) for this program in the Federal Register on February 22, 2024 (89 FR 13294). That document contained background information and our reasons for proposing the priority and requirements.

There are differences between the NPP and this notice of final priority and requirements (NFP) as discussed in the Analysis of Comments and Changes section of this document. The most significant change, as discussed below, is the elimination of the requirement for an electronic open-source tool to assist States in linking and integrating their Part C early intervention and Part B preschool special education data with other data/data systems associated with other Federal programs that support infants, toddlers, and young children and their families.¹ We are also adding expected outcome (i) for the Center.

¹ This NFP describes infants, toddlers and/or children with disabilities as “children with disabilities” or “young children with disabilities” to include children referred to both Parts C and B of the IDEA, birth through age five.

Public Comment: In response to our invitation in the NPP, eight parties submitted comments addressing the proposed priority and requirements. We received one additional comment unrelated to the priority.

Generally, we do not address technical and other minor changes, or suggested changes the law does not authorize us to make under the applicable statutory authority. In addition, we do not address general comments that raised concerns not directly related to the proposed priority and requirements.

Analysis of Comments and Changes: An analysis of the comments and of any changes in the priority and requirements since publication of the NPP follows. We received comments on a number of specific topics, including the topics for TA. Each topic is addressed below.

General Comments

Comments: All commenters specifically expressed support for the proposed Center, as it would improve State capacity for IDEA early childhood data collection, analysis, and reporting.

Discussion: The Department appreciates the comments and agrees with the commenters that the Center funded under this program will provide necessary and valuable TA to States to improve the capacity of States to meet their IDEA early childhood data collection, analysis, and reporting requirements.

Changes: None.

Comment: The majority of commenters focused their comments on the Department's directed question regarding the phased-in funding strategy, which entails smaller initial awards followed by larger ones in subsequent years. Many expressed reservations about this approach, particularly in light of the expanded scope and obligations introduced by Proposed Priority 2: Technical Assistance To Improve State Capacity To Collect, Report, Analyze, and Use Accurate Child Find Data For Infants and Toddlers. They highlighted concerns about the added requirement to create an open-source electronic tool aimed at assisting States in integrating their Part C early intervention and Part B preschool special education data with other Federal program data systems supporting infants, toddlers, and young children and their families. The commenters also noted that the strategy would restrict the Center's ability to offer comprehensive support to States. One commenter suggested postponing intensive TA on data utilization for Child Find processes until full funding could be secured, emphasizing the need for additional financial resources to develop the open-source electronic tool.

Discussion: The Department agrees with the feedback provided by commenters regarding the necessity to align the scope and requirements of these priorities with the available funding for this project. We recognize the ongoing needs of States concerning the collection, reporting, analysis, and use of IDEA Part C and Part B preschool special education data. Consequently, any expansion of the scope and requirements for these priorities should align to the most pressing needs identified by States. To address the concerns raised by commenters, the Department is refining the scope and requirements of these priorities accordingly. Furthermore, we expect applicants to propose suitable timelines for implementing general, targeted, and intensive TA, taking into account the annual funding levels provided for this project.

Changes: The Department is adjusting the scope of these priorities and requirements to align with the funding available for this Center by eliminating the requirement for an open-source tool and narrowing the scope of TA associated with data integration to primarily focus on the sharing, linking, or integrating of IDEA Part C early intervention and IDEA Part B preschool special education data.

Integrating Early Childhood Data Systems

Comments: Two commenters expressed approval for incorporating an open-source electronic tool to aid States in linking and integrating their Part C early intervention and Part B preschool special education data with other data/data systems associated with other Federal programs that support infants, toddlers, and young children and their families. However, several commenters voiced concerns regarding the inclusion of this requirement in Priority 1. They pointed out that creating such a tool would demand significant project resources and a substantial commitment of State staff, which may currently be unfeasible. Moreover, one commenter provided evidence suggesting that this tool is not a top priority for State staff compared to other aspects of these priorities.

Discussion: The Department appreciates the feedback provided on the open-source electronic tool to assist States in linking and integrating their Part C early intervention and Part B preschool special education data with other data/data systems associated with other Federal programs that support infants, toddlers, and young children and their families. We agree with the commenters that the development of the open-source electronic tool should be omitted from the requirements of these priorities to align the scope of this center with the most pressing needs identified by States.

Changes: We removed the requirement for an open-source electronic tool from Priority 1.

Comments: Several commenters suggested modifications to the scope and expected outcomes of the TA concerning the enhancement, streamlining, and integration of statewide, child-level early childhood data systems. One commenter stated that many States have a considerable amount of work to do before they are able to integrate and/or link data outside of the IDEA Part C early intervention and Part B preschool special education programs. Another commenter noted that, while TA is an important component to the data integration work, States must also have State leadership support, support of other programs and agencies, as well as necessary staff, financial resources, and data capacity to plan for and accomplish the complexities involved in this type of data integration. This commenter noted that States expressed that the expected outcome related to data system integration was of lower priority to Part C early intervention programs. They noted that given the current challenges and priorities of Part C lead agencies, data integration for many States remains aspirational at this point. For these reasons, commenters suggested to focus this TA on—(1) data sharing and linking between the IDEA Part C early intervention program and IDEA Part B preschool special education programs; and (2) States' readiness to engage in TA related to linking or integrating Part C and Part B preschool special education data with other statewide, child-level early learning data systems (e.g., early childhood integrated data systems (ECIDS)).

Discussion: The Department acknowledges that States vary in their levels of interest, capability, and commitment to share, link, or integrate their Part C and Part B preschool special education data with data from other early learning data systems. Additionally, we recognize that engaging in TA regarding data sharing, linking, and integrating requires a significant commitment of State staff and resources. Moreover, we appreciate the feedback indicating that data sharing, linking, and integrating with other early learning data systems is a lower priority for Part C and Part B preschool special education programs at this time. We also appreciate the recommendation to assess the readiness of States to engage in TA on this topic. Consequently, we are refining the scope of Priority 1 in light of these considerations.

Changes: The Department has removed expected outcome (e) concerning State capacity to utilize available integrated or linked Part C early intervention and Part B preschool special education data and/or early childhood integrated data systems to analyze high-quality data on the participation and outcomes of infants, toddlers, and children with disabilities served under IDEA who may also participate in other programs.

Additionally, we have made the following revisions:

• Expected outcome (c) in Priority 1 now emphasizes increasing the number of States with plans to share, link, or integrate data, specifically considering the linking of Part C early intervention and Part B preschool special education data.

• Expected outcome (e) in Priority 1 now concentrates on enhancing States' readiness to engage in data sharing, linking, or integration activities among Part C and Part B preschool special education data/systems and other statewide longitudinal and early learning data/systems. This includes data/systems associated with child care, Early Head Start, Head Start, publicly funded preschool, and home visiting programs.

• Expected outcome (f) in Priority 1 now centers on data management policies and procedures, encompassing data sharing, linking, and integration, as well as data system integration activities. These policies and procedures aim to facilitate the collection, reporting, analysis, and use of high-quality IDEA Part C early intervention and Part B preschool special education data.

Areas of State Need

Comments: Several commenters recommended the inclusion of additional areas of State need associated with the IDEA section 616 data (as modified by IDEA section 642), including early childhood and family outcomes data, data to be reported on the new general supervision indicator, and data for the State Systemic Improvement Plan (SSIP). Additionally, commenters provided support for providing TA around Part C child find data and analyses, including defining, collecting, and using data to improve the processes for identifying young children eligible for IDEA services and to monitor equitable access to early intervention services.

Discussion: The Department agrees with the need for this Center to increase State capacity to collect, report, analyze and use Part C child find data, early childhood and family outcomes data, general supervision data, and program improvement data. These areas align with the following indicators that State Part C Programs report under the IDEA section 616 data: Indicator 3 (Early Childhood Outcomes), Indicator 4 (Family Outcomes), Indicators 5 and 6 (Child Find), Indicator 11 (SSIP), and Indicator 12 (General Supervision). This Center will provide TA in these areas as they relate to the collection, reporting, analysis, and use of the IDEA section 616 data under expected outcome (a) of Priority 1.

Changes: The Department inserted a footnote to clarify the data reported under IDEA section 616 in expected outcome (a) of Priority 1.

Comments: Two commenters expressed the need for this Center to provide TA to support State capacity to participate in the Differentiated Monitoring and Support (DMS) process.

Discussion: The Department acknowledges the necessity of enhancing State capacity to collect, report, analyze and use data for evidence-based monitoring protocols within the DMS process. DMS is a cyclical monitoring process that focuses on States' general supervision systems. General supervision encompasses each State's responsibility to ensure that the State and its subgrantees and contractors meet the requirements of IDEA. These requirements include improving educational results and functional outcomes for all children with disabilities, and early intervention results and functional outcomes for all infants and toddlers with disabilities. Additionally, public agencies must meet the program requirements under Parts B and C of IDEA, with a particular emphasis on those requirements that are most closely related to improving early intervention results for infants and toddlers with disabilities and educational results for children with disabilities. The Office of Special Education Programs (OSEP) identifies data, including the State Performance Plan (SPP)/Annual Performance Report (APR), as one of the four components of general supervision that is examined in the DMS process. Consequently, we have incorporated an expected outcome related to strengthening State capacity to collect, report, analyze, and use data, demonstrating State-level implementation of IDEA policies and procedures.

Changes: The Department inserted expected outcome (i) in Priority 1 to build State capacity to collect, report, analyze, and use Part C early intervention and Part B preschool special education data to improve State IDEA data analyses regarding results and functional outcomes for all infants, toddlers, and children with disabilities to demonstrate and improve how public agencies meet the program requirements under Parts B and C of IDEA, with a particular emphasis on those requirements that are most closely related to improving early intervention results for infants and toddlers with disabilities and educational results for children with disabilities as monitored by the Department via its DMS process.

Comments: Two commenters suggested a specific focus on building State capacity in the area of data leadership.

Discussion: The Department agrees that there is a need to build State capacity in data leadership. Data leaders are expected to create a culture of data use in their programs, facilitate and promote building the capacity of staff and stakeholders to use data, and enhance the data infrastructure needed to improve the management of Part C and Part B preschool special education data through the entire life cycle.

Changes: The Department revised expected outcome (g) in Priority 1 to include building State capacity to address data leadership training needs.

Components for TA

Comments: One commenter suggested a need for the Center to offer cross-State connections and learning opportunities and another commenter suggested adding a requirement for the Center to host a data conference.

Discussion: The Department agrees there is a need for the Center to offer cross-State training opportunities. We think that expected outcome (g) in Priority 1, which requires the Center to facilitate both in-person and virtual cross-State training for data leaders and personnel in State and local programs and agencies, effectively addresses this need. Applicants should propose the type(s) of cross-State training opportunities they believe are most effective and efficient to build State capacity to collect, report, analyze, and use the Part C and Part B preschool special education data.

Changes: None.

Comments: One commenter suggested that there should be an intentional focus on equitable data collection, analysis, and use within these priorities.

Discussion: The Department agrees that there is a need to build State capacity to collect, report, analyze, and use Part C and Part B preschool special education data to support equitable identification, access, services, outcomes, and impact of early intervention and preschool special education and related services on infants, toddlers, and young children receiving services under IDEA. Additionally, we think the expected outcome (h) in Priority 1 and the expected outcomes (b), (c), and (d) in Priority 2 address this need.

Changes: None.

Final Priorities

This document contains two final priorities.

Priority 1: National Technical Assistance Center To Improve State Capacity To Collect, Report, Analyze, and Use Accurate Early Childhood IDEA Data

Priority:

The purpose of this priority is to fund a cooperative agreement to establish and operate a National Technical Assistance Center to Improve State Capacity to Collect, Report, Analyze, and Use Accurate Early Childhood IDEA Data (Center).

The Center will provide TA to (1) improve State capacity to collect, report, analyze, and use high-quality IDEA Part C early intervention data (including IDEA section 618 Part C data and IDEA section 616 Part C data) and IDEA Part B preschool special education data on children with disabilities; and (2) enhance and streamline Part C and Part B preschool special education data systems by sharing, linking, and integrating statewide, child-level early childhood data (including Part C and Part B preschool special education data) to improve the analyses of IDEA data to address critical policy questions that will facilitate program improvement, improve compliance accountability, and improve outcomes or results for children served under Part C and Part B preschool special education programs. These Part C early intervention and Part B preschool special education data systems must allow the States to (1) effectively and efficiently respond to all IDEA-related data submission requirements (e.g., Part C section 616 and 618 data and Part B preschool special education data); (2) improve the analyses of IDEA data to respond to critical policy questions that will facilitate program improvement and compliance accountability; and (3) comply with applicable privacy requirements, including the privacy and confidentiality requirements under Parts B and C of IDEA and applicable provisions of the Family Educational Rights and Privacy Act (20 U.S.C. 1232g) and its regulations at 34 CFR part 99.² The Center must achieve, at a minimum, the following expected outcomes:

² The Center must review the need for additional resources (with input from the Department) and disseminate existing resources developed by the Department, such as: (1) Understanding the Confidentiality Requirements Applicable to IDEA Early Childhood Programs (October 2016); (2) IDEA/FERPA Crosswalk (Surprenant & Miller, August 24, 2022)(https://studentprivacy.ed.gov/sites/default/files/resource_document/file/IDEA-FERPA%20Crosswalk_08242022.pdf); (3) Webinars such as Navigating IDEA and FERPA To Protect Privacy in Today's Early Childhood World (September 22, 2023); and (4) Data sharing agreement template (at https://dasycenter.org/us-dept-ed-shares-idea-data-sharing-mou-template/.

(a) Increased capacity of States to collect, report, analyze, and use high-quality IDEA Part C early intervention data (including IDEA section 616 Part C data ³ and section 618 Part C data ⁴);

³ The IDEA section 616 Part C data includes Indicators 1 through 12 as discussed in the Part C State Performance Plan (SPP) and Annual Performance Report (APR) Indicator Measurement Table.

⁴ The IDEA section 618 Part C data includes Part C Child Count and Settings data collection, Part C Exiting data collection, and the Part C Dispute Resolution data collection.

(b) Increased capacity of States to collect, report, analyze, and use high-quality IDEA Part B preschool special education data;

(c) Increased number of States with plans to share, link, or integrate Part C early intervention and Part B preschool special education data (that comply with all applicable privacy laws) and use such shared, linked, or integrated Part C early intervention and Part B preschool special education data to improve program compliance and accountability;

(d) Increased number of States that use their Part C early intervention and Part B preschool special education data system to identify and answer critical State-determined policy questions to drive program improvement, improve results for children with disabilities, and improve compliance accountability;

(e) Increased number of States who consider engaging in data sharing, linking, or integration activities related to Part C and Part B preschool special education data/data systems to other statewide longitudinal and early learning data/data systems (e.g., Early Head Start, Head Start, child care, publicly funded preschool, and home visiting programs) and identify how to enable such sharing, linkages, or integration so that it would comply with all applicable privacy laws;

(f) Increased capacity of States to implement and document Part C early intervention and Part B preschool special education data management policies and procedures, including data sharing, linking, and integration activities, used to collect, report, analyze, and use high-quality IDEA Part C early intervention and Part B preschool special education data;

(g) Increased capacity of States to address data leadership and personnel training needs to collect, report, analyze, and use the Part C early intervention and Part B preschool special education data collection through development of effective tools and resources, as well as providing opportunities for in-person and virtual cross-State training for data leaders and personnel in State and local programs and agencies to collect, report, analyze, and use Part C early intervention and Part B preschool special education;

(h) Increased capacity of States to collect, report, analyze, and use Part C and Part B preschool special education data to support equitable identification, access, services, outcomes, and impact of early intervention and preschool special education and related services on infants, toddlers, and young children receiving services under IDEA; and

(i) Increased capacity of States to collect, report, analyze, and use Part C early intervention and Part B preschool special education data to improve State IDEA data analyses regarding results and functional outcomes for all infants, toddlers, and young children with disabilities to demonstrate and improve how public agencies meet the program requirements under Parts B and C of IDEA, with a particular emphasis on those requirements that are most closely related to improving early intervention results for infants and toddlers with disabilities and educational results for children with disabilities as monitored by OSEP via its Differentiated Monitoring and Support process.

Priority 2: Technical Assistance To Improve State Capacity To Collect, Report, Analyze, and Use Accurate Child Find Data for Infants and Toddlers

Priority:

The purpose of this priority is to fund TA to increase the capacity of States to collect, report, analyze, and use available data to improve the Part C child find data they report through their Part C SPP/APR.

The Center must achieve, at a minimum, the following expected outcomes:

(a) Increased capacity of States to collect, report, analyze, and use available data to improve the root cause analysis of their Part C child find data (including IDEA section 616 Part C data for indicators C5 and C6 and section 618 Part C data);

(b) Increased number of States that have the capacity to identify, for children served under IDEA Part C, other data they may collect (such as number of infants and toddlers referred, screened, evaluated, eligible, and enrolled in early intervention services under Part C) by various characteristics of the child, including race, ethnicity, home language, gender, socio-economic status, and geographic location;

(c) Increased number of States that have the capacity to conduct a root cause analysis of available child find data to better identify disparities among demographic groups and potential barriers to enrollment in early intervention services under Part C of IDEA; and

(d) Increased number of States that have the capacity to use their IDEA and non-IDEA Part C child find data to improve their IDEA child find processes at the State and local program levels.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This document does not preclude us from proposing additional priorities or requirements, subject to meeting applicable rulemaking requirements.

Note: This document does not solicit applications. In any year in which we choose to use this priority and these requirements, we invite applications through a notice in the Federal Register.

Final Requirements

The Assistant Secretary establishes the following requirements for this program. In addition to the program requirements contained in both priorities, to be considered for funding applicants must meet the application and administrative requirements. We may apply these requirements in any year in which this program is in effect.

Requirements:

Applicants must—

(a) Demonstrate, in the narrative section of the application under “Significance,” how the proposed project will—

(1) Address State challenges associated with early childhood data management and data sharing, linking, and integration, including implementing early childhood data system integration and improvements; enhancing and streamlining Part C early intervention and Part B preschool special education data systems to respond to critical policy questions; using ECIDS for program improvement and compliance accountability for Part C early intervention and Part B preschool special education programs; reporting high-quality IDEA Part C data (including IDEA section 616 Part C data and section 618 Part C data) and IDEA Part B preschool special education data to the Department and the public; and analyzing Part C child find data to improve equitable access to Part C early intervention services. To meet this requirement the applicant must—

(i) Present applicable national, State, or local data demonstrating the challenges of States to implement effective early childhood data management policies and procedures and data sharing, linking, and integration activities, including integrating early childhood data systems across IDEA programs, other early learning programs, and other educational programs for school-aged students; link Part C and Part B preschool special education program data; use their Part C and Part B preschool special education data systems to respond to critical State-determined policy questions for program improvement and compliance accountability; and collect, report, analyze, and use Part C child find data to improve equitable access to Part C early intervention services;

(ii) Demonstrate knowledge of current educational and technical issues and policy initiatives relating to early childhood data management and data sharing, linking, and integration; data use; data privacy; Part C IDEA sections 616 and 618 data; Part C child find data; Part B preschool special education data; and Part C and Part B preschool special education data systems; and

(iii) Present information about the current level of implementation of sharing, linking, and integrating Part C and Part B preschool special education data; sharing, linking, or integrating Part C and/or Part B preschool special education data systems with other early learning data systems; using Part C and Part B preschool special education data systems to respond to critical State-determined policy questions; and collecting, reporting, analyzing, and using high-quality IDEA Part C data (including IDEA section 616 Part C data and section 618 Part C data) and IDEA Part B preschool special education data; and

(2) Improve early childhood data management policies and procedures and data sharing, linking, and integration practices to: collect, report, and analyze high-quality Part C and Part B preschool special education data (including Part C child find data); share, link, or integrate Part C and Part B preschool special education data; share, link, or integrate these data with data on children participating in other early learning programs and data on school-aged children; and use robust early childhood data systems to improve the analyses of IDEA data to the extent these analyses answer critical State-determined policy questions. Include the likely magnitude or importance of the improvements.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that products and services meet the needs of the intended recipients of the grant;

(2) Achieve its goals, objectives, and intended outcomes. To meet this requirement, the applicant must provide—

(i) Measurable intended project outcomes; and

(ii) In appendix A, the logic model (as defined in 34 CFR 77.1) by which the proposed project will achieve its intended outcomes that depicts, at a minimum, the goals, activities, outputs, and intended outcomes of the proposed project;

(3) Use a conceptual framework (and provide a copy in appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of evidence-based ⁵ practices (EBPs). To meet this requirement, the applicant must describe—

⁵ For purposes of these requirements, “evidence-based” means, at a minimum, demonstrating a rationale (as defined in 34 CFR 77.1) based on high-quality research findings or positive evaluation that such activity, strategy, or intervention is likely to improve student outcomes or other relevant outcomes.

(i) The current research on early childhood data management and data sharing, linking, and integration, and related EBPs; and

(ii) How the proposed project will incorporate current research and EBPs in the development and delivery of its products and services;

(5) Develop products and provide services that are of high quality and sufficient intensity and duration to achieve the intended outcomes of the proposed project. To address this requirement, the applicant must describe—

(i) How it proposes to identify and develop the knowledge base on early childhood data management and data system integration;

(ii) Its proposed approach to universal, general TA,⁶ which must identify the intended recipients, including the type and number of recipients, that will receive the products and services under this approach;

⁶ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iii) The proposed approach to targeted, specialized TA,⁷ which must identify—

⁷ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services;

(B) The proposed approach to measure the readiness of potential TA recipients to work with the project, assessing, at a minimum, their current infrastructure, available resources, and ability to build capacity at the State and local level; and

(C) The process by which the proposed project will collaborate with OSEP-funded centers and other federally funded TA centers to develop and implement a coordinated TA plan when the work of the center or centers overlaps with the proposed project; and

(iv) Its proposed approach to intensive, sustained TA,⁸ which must identify—

⁸ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services under this approach;

(B) Its proposed approach to addressing States' challenges associated with limited resources to engage in early childhood data sharing, linking, and integration and enhancement activities that streamline the established Part C and Part B preschool special education data systems to respond to critical policy questions and to report high-quality IDEA data to the Department and the public, which must, at a minimum, include providing on-site consultants to the State lead agency (LA) or State educational agency (SEA) to—

(1) Model and document data management and data sharing, linking, and integration policies, procedures, processes, and activities within the State;

(2) Develop and adapt tools and provide technical solutions to meet State-specific data needs; and

(3) Develop a sustainability plan for the State to continue the data management and data sharing, linking, and integration work in the future;

(C) Its proposed approach to measure the readiness of State LA and SEA personnel to work with the project, including their commitment to the initiative, alignment of the initiative to their needs, current infrastructure, available resources, and ability to build capacity at the State and local levels;

(D) Its proposed approach to prioritizing TA recipients with a primary focus on meeting the needs of States with known ongoing data quality issues, as measured by OSEP's review of the quality of the IDEA sections 616 and 618 data;

(E) Its proposed plan for assisting State LAs and SEAs to build or enhance training systems that include professional development based on adult learning principles and coaching;

(F) Its proposed plan for working with appropriate levels of the education system (e.g., State LAs, SEAs, regional TA providers, districts, local programs, families) to ensure that there is communication between each level and that there are systems in place to support the collection, reporting, analysis, and use of high-quality IDEA Part C data (including IDEA section 616 Part C data, section 618 Part C data, and Part C child find data) and IDEA Part B preschool special education data as well as early childhood data management and data system integration; and

(G) Its proposed plan for collaborating and coordinating with the National Technical Assistance Center to Improve State Capacity to Collect, Report, Analyze, and Use Accurate IDEA Part B Data, the Early Childhood Technical Assistance Center, other Department-funded TA investments, other federally funded TA investments, and Institute of Education Sciences/National Center for Education Statistics research and development investments, where appropriate, in order to align complementary work and jointly develop and implement products and services to meet the purposes of this priority and to develop and implement a coordinated TA plan when they are involved in a State; and

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the project evaluation,” include an evaluation plan for the project developed in consultation with and implemented by a third-party evaluator.⁹ The evaluation plan must—

⁹ A “third-party” evaluator is an independent and impartial program evaluator who is contracted by the grantee to conduct an objective evaluation of the project. This evaluator must not have participated in the development or implementation of any project activities, except for the evaluation activities, or have any financial interest in the outcome of the evaluation.

(1) Articulate formative and summative evaluation questions, including important process and outcome evaluation questions. These questions should be related to the project's proposed logic model required in paragraph (b)(2)(ii) of these application and administrative requirements;

(2) Describe how progress in and fidelity of implementation, as well as project outcomes will be measured to answer the evaluation questions.

Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation, and include staff assignments for completing the plan. The timeline must indicate that the data will be available annually for the annual performance report (APR) and at the end of Year 2; and

(5) Dedicate sufficient funds in each budget year to cover the costs of developing or refining the evaluation plan in consultation with a “third-party” evaluator, as well as the costs associated with the implementation of the evaluation plan by the third-party evaluator.

(d) Demonstrate, in the narrative section of the application under “Adequacy of resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed costs are reasonable in relation to the anticipated results and benefits and funds will be spent in a way that increases their efficiency and cost-effectiveness, including by reducing waste or achieving better outcomes.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

(ii) A three-day project directors' conference in Washington, DC, during each year of the project period, provided that, if the conference is conducted virtually, the project must reallocate unused travel funds no later than the end of the third quarter of each budget period.

(iii) Three annual two-day trips to attend Department briefings, Department-sponsored conferences, and other meetings, as requested by OSEP;

(3) Provide an assurance that the project will—

(i) Reallocate unused travel funds no later than the end of the third quarter if the kick-off or planning meetings are conducted virtually; and

(ii) Within 30 days of receipt of the award, participate in a post-award teleconference between the OSEP project officer and the grantee's project director or other authorized representative;

(4) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(5) Budget at least 50 percent of the grant award for providing targeted and intensive TA to States;

(6) Provide an assurance that it will maintain a high-quality website, with an easy-to-navigate design, that meets government or industry-recognized standards for accessibility; and

(7) Include, in appendix A, an assurance to assist OSEP with the transfer of pertinent resources and products and to maintain the continuity of services to States during the transition to these new award period and at the end of this award period, as appropriate.

Executive Orders 12866, 13563, and 14094

Regulatory Impact Analysis

Under Executive Order 12866, the Office of Management and Budget (OMB) must determine whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlement grants, user fees, or loan programs or the rights and obligations of recipients thereof; or

(4) Raise legal or policy issues for which centralized review would meaningfully further the President's priorities, or the principles set forth in the Executive order, as specifically authorized in a timely manner by the Administrator of OIRA in each case.

This final regulatory action is not a significant regulatory action subject to review by OMB under section 3(f) of Executive Order 12866 (as amended by Executive Order 14094). Pursuant to the Congressional Review Act (5 U.S.C. 801 et seq.), the Office of Information and Regulatory Affairs designated this rule as not a “major rule,” as defined by 5 U.S.C. 804(2).

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the final priorities and requirements only on a reasoned determination that their benefits justify the costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Discussion of Potential Costs and Benefits

The Department believes that this regulatory action does not impose significant costs on eligible entities, whose participation in this program is voluntary. While this action does impose some requirements on participating grantees that are cost-bearing, the Department expects that applicants for this program will include in their proposed budgets a request for funds to support compliance with such cost-bearing requirements. Therefore, costs associated with meeting these requirements are, in the Department's estimation, minimal.

The Department believes that these benefits to the Federal Government outweigh the costs associated with this action.

Paperwork Reduction Act of 1995

The final priorities, including requirements, contain information collection requirements that are approved by OMB under OMB control number 1820-0028; the final priorities, including requirements, do not affect the currently approved data collection.

Regulatory Flexibility Act Certification: The Secretary certifies that this final regulatory action will not have a significant economic impact on a substantial number of small entities.

The small entities that this final regulatory action will affect are LEAs, including charter schools that operate as LEAs under State law; institutions of higher education; other public agencies; private nonprofit organizations; freely associated States and outlying areas; Indian Tribes or Tribal organizations; and for-profit organizations. We believe that the costs imposed on an applicant by these final priorities and requirements will be limited to paperwork burden related to preparing an application and that the benefits will outweigh any costs incurred by applicants.

Participation in the Technical Assistance on State Data Collection program is voluntary. For this reason, the final priorities and requirements impose no burden on small entities unless they applied for funding under the program. We expect that in determining whether to apply for Technical Assistance on State Data Collection program funds, an eligible entity will evaluate the requirements of preparing an application and any associated costs and weigh them against the benefits likely to be achieved by receiving a Technical Assistance on State Data Collection program grant. An eligible entity will apply only if it determines that the likely benefits exceed the costs of preparing an application.

We believe that the final priorities and requirements will not impose any additional burden on a small entity applying for a grant than the entity would face in the absence of the proposed action. That is, the length of the applications those entities would submit in the absence of this final regulatory action and the time needed to prepare an application would likely be the same.

This final regulatory action would not have a significant economic impact on a small entity once it receives a grant because it will be able to meet the costs of compliance using the funds provided under this program.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Danté Allen,
Commissioner, Rehabilitation Services Administration, Office of Special Education and Rehabilitative Services.

[FR Doc. 2024-16115 Filed 7-18-24; 11:15 am]

BILLING CODE 4000-01-P